DEPARTMENT OF VETERANS AFFAIRS

Veterans' Disability Benefits Commission; Notice of Meeting

The Department of Veterans Affairs (VA) gives notice under Public Law 92-463 (Federal Advisory Committee Act) that the Veterans' Disability Benefits Commission has scheduled a meeting for July 13-14, 2006, in the Oasis Room of the Almas Temple, 1315 K Street, NW., Washington, DC. The meeting will begin each day at 8:30 a.m. On July 13 the meeting will end at 4:15 p.m., and on July 14 the meeting will end at 3 p.m. The meeting is open to the public.

The purpose of the Commission is to carry out a study of the benefits under the laws of the United States that are provided to compensate and assist veterans and their survivors for disabilities and deaths attributable to military service.

The agenda for the meeting on July 13 will include updates on the progress of the studies being conducted by the Institute of Medicine (IOM) and the Center for Naval Analyses (CNA). IOM will present a report of its Committee review of PTSD diagnosis and assessment. There will be additional presentations related to PTSD, post-deployment health and eligibility verification. The agenda for the meeting on July 14 will include an expanded discussion of quality of life and follow-up reporting on additional programs serving seriously injured and disabled veterans and service members.

Interested persons may attend and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: June 28, 2006.
By Direction of the Secretary.
E. Philip Riggin,
Committee Management Officer.

[FR Doc. 06-5989 Filed 7-5-06; 8:45 am]

BILLING CODE 8320-01-M